DEPARTMENT OF TRANSPORTATION

Federal Railroad Administration

Environmental Impact Statement: Rail Corridor—Richmond, VA (Main Street Station) to Raleigh, NC (Boylan Wye), Extension of Study Area to Richmond, VA

AGENCY: Federal Railroad Administration (FRA), U.S. Department of Transportation (DOT).

ACTION: Notice of Intent To Prepare an Environmental Impact Statement.

SUMMARY: The FRA is issuing this notice to advise the public of a revision to the Northern terminus of the project to be studied in the Tier-II Environmental Impact Statement (EIS) for the Southeast High Speed Rail (SEHSR) Corridor in Virginia and North Carolina. The previous Notice of Intent issued on May 22, 2003 identified a Northern project terminus in Petersburg, Virginia at Collier Rail Yard. The EIS study area now extends from Main Street Station in Richmond, Virginia to Raleigh, North Carolina (Boylan Wye), forming a project corridor approximately 168 miles long.

FOR FURTHER INFORMATION CONTACT: Mr. David Foster, Rail Environmental Programs Manager, North Carolina Department of Transportation Rail Division, 1553 Mail Service Center, Raleigh, NC, 27699-1553, telephone # (919) 733-7245 x 266; or Mr. John Winkle, Project Manager, Federal Railroad Administration (FRA), 400 Seventh Street, SW., MS 20, Washington, DC 20590, telephone # (202) 493-6067.

SUPPLEMENTARY INFORMATION: In May 2003 the FRA, in cooperation with the Federal Highway Administration (FHWA), the North Carolina Department of Transportation (NCDOT), and the Virginia Department of Rail and Public Transportation (VDRPT), began a Tier-II Environmental Impact Statement (EIS) for the 138-mile portion of the SEHSR Corridor from Petersburg, Virginia at Collier Yard to Raleigh, North Carolina at the Boylan Wye. This study is evaluating rail alternatives and environmental impacts within the preferred corridor (Alternative A) described in the Tier-I Record of Decision for the SEHSR Corridor from Washington, DC to Charlotte, North Carolina. The previous Notice of Intent (68 FR 28044) disclosed that multiple options within the preferred SEHSR corridor exist to connect the S-line from Burgess to Main Street Station in Richmond, Virginia.

The study limits of the Richmond to Raleigh Tier II EIS are now being extended to Richmond Main Street Station adding approximately 30 miles to the study corridor and encompassing the previously disclosed multiple options in this area. The additional study corridor generally follows the CSX S-line from Richmond Main Street Station to Centralia, and the CSX main line (A-line) from Centralia to Dunlop. From Dunlop to Burgess, Virginia there are multiple alternatives that will be evaluated, including different locations for crossing the Appomattox River to join the former Seaboard Air Line (S-line) to Raleigh, North Carolina.

This Tier-II environmental process has four basic goals: (1) Reiterate the purpose and need as established in the Tier-I EIS for the Washington, DC to Charlotte, NC portion of the SEHSR corridor; (2) develop site-specific rail alternatives within the study corridor; (3) conduct a detailed evaluation of environmental impacts for the alternatives; and (4) select a preferred alternative. Agency scoping meetings for the extended study area will be scheduled in Richmond Virginia in late February or early March of 2006.

Letters describing the proposed action alternatives and soliciting comments will be sent to appropriate Federal, State, and local agencies in Virginia. An iterative public involvement/information program will support the process. The program will involve newsletters, a project hotline, informational workshops, small group meetings, and other methods to solicit and incorporate public input throughout the planning process.

To ensure that the full range of issues relating to the proposed action is addressed, comments and suggestions are invited from all interested parties. Comments and questions concerning the extension of the proposed action should be directed to NCDOT or to the FRA at the addresses provided above. Additional information can be obtained by visiting the project Web site at http://www.sehsr.org or calling the toll-free project number 1-877-749-RAIL (7245).

Issued in Washington, DC, on January 30, 2006.
Mark E. Yachmetz,
Associate Administrator for Railroad Development.

[FR Doc. E6-1500 Filed 2-2-06; 8:45 am]

BILLING CODE 4910-06-P